DEPARTMENT OF ENERGY

Federal Energy Regulatory Commission

[Docket No. RP95-64-006]

Tennessee Gas Pipeline Company; Notice of Cash-Out Report

March 7, 2001.

Take notice that on February 28, 2001, Tennessee Gas Pipeline Company (Tennessee), tendered for filing the special one-time cashout report pursuant to the Stipulation and Agreement settling various issues relating to its cashout methodology (Cashout Settlement) accepted by the Federal Energy Regulatory Commission (Commission) in Tennessee Gas Pipeline Company, 87 FERC ¶ 61,106 (1999). Tennessee states that it will make the report available to any interested party requesting a copy.

Any person desiring to protest said filing should file a protest with the Federal Energy Regulatory Commission, 888 First Street, NE., Washington, DC 20426, in accordance with section 385.211 of the Commission's Rules and Regulations. All such protests must be filed on or before March 14, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6149 Filed 3-12-01; 8:45 am]

BILLING CODE 6717-01-M